DEPARTMENT OF JUSTICE

Notice of Lodging of Settlement Agreement Under the Comprehensive Environmental Response, Compensation and Liability Act

Under 28 CFR 50.7, notice is hereby given that on May 14, 2004, a proposed Settlement Agreement for In Re Lockwood Corporation, BK 93-80133, was lodged with the United States Bankruptcy Court for the District of Nebraska.

In this action the United States sought reimbursement of response costs and protection of the environment relating to the continued maintenance of a hazardous waste management unit located at 220759 Highway 92 in Gering, Nebraska. The Settlement Agreement is between the Lockwood Corporation Bankruptcy Trustee, Agromac International Inc., and the United States. The Agreement provides for (i) the hazardous waste management unit to be transferred from Lockwood to Agromac, and (ii) transfer of the remaining funds in the bankruptcy estate, net of $52,000 in reimbursement of monitoring expenditures and fees, to an escrow account for use in cleaning up the property in accordance with a companion Administration Order on Consent entered into between Agromac and the United States pursuant to section 122(h) of the Comprehensive Environmental Response, Compensation and Liability Act of 1980, as amended (“CERCLA”). In return for the commitments by the Trustee, the United grants Lockwood a covenant not to sue under sections 106 and 107 of CERCLA, 42 U.S.C. 9606 and 9607, and section 7003 of the Resource Conservation and Recovery Act, 42 U.S.C. 6973, relating to the Lockwood Site.

The Department of Justice will receive for a period of thirty (30) days from the date of this publication comments relating to the Settlement Agreement. Comments should be addressed to the Assistant Attorney General, Environment and Natural Resources Division, P.O. Box 7611, U.S. Department of Justice, Washington, DC 20044-7611, and should refer to In re: Lockwood Corporation, D.J. Ref. 90-11-2-06924. Commenters may request an opportunity for a public meeting in the affected area, in accordance with section 7003(d) of RCRA, 42 U.S.C. 6973(d).

The Agreement and AOC may be examined at the Office of the United States Attorney, 1620 Dodge Street, Suite 1400, Omaha, NE 68102-1506, at U.S. EPA Region VII, 901 N. 5th Street, Kansas City, Kansas 66101, and on the following Department of Justice Web site: http://www.usdoj.gov/enrd/open.html. A copy of the Agreement and AOC may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $3.75 for the Agreement, and/or $19.50 for the AOC (25 cents per page reproduction cost) payable to the U.S. Treasury.

Robert E. Maher, Jr.,
Assistant Section Chief, Environmental Enforcement Section, Environment and Natural Resources Division.

[FR Doc. 04-12624 Filed 6-03-04; 8:45 am]

BILLING CODE 4410-15-M